DEPARTMENT OF COMMERCE

National Oceanic and Atmospheric Administration

RIN 0648-XF395

Pacific Whiting; Advisory Panel

AGENCY: National Marine Fisheries Service (NMFS), National Oceanic and Atmospheric Administration (NOAA), Commerce.

ACTION: Notice; call for nominations.

SUMMARY: NMFS is soliciting nominations for appointments to the United States Advisory Panel (AP) established in the Agreement between the Government of the United States of America and the Government of Canada on Pacific Hake/Whiting (Pacific Whiting Treaty). Nominations are being sought to fill one position on the AP for a four year term beginning in 2018.

DATES: Nominations must be received by August 11, 2017.

ADDRESSES: You may submit nominations by any of the following methods:

• Email: whiting.nominations.wcr@noaa.gov.

• Fax: 206-526-6736, Attn: Frank Lockhart.

• Mail: Barry Thom, Regional Administrator, West Coast Region, NMFS, 7600 Sand Point Way NE., Seattle, WA 98115-0070.

FOR FURTHER INFORMATION CONTACT: Frank Lockhart, (206) 526-6142 or Miako Ushio, (206) 526-4644.

SUPPLEMENTARY INFORMATION:

Pacific Whiting Treaty Committees Background

The Pacific Whiting Act of 2006 (Pacific Whiting Act), 16 U.S.C. 7001-10, implements the 2003 Agreement between the Government of the United States of America and the Government of Canada on Pacific Hake/Whiting. Among other provisions, the Pacific Whiting Act provides for the establishment of an Advisory Panel (AP). The AP makes recommendations to the Joint Management Committee on bilateral Pacific whiting management issues. AP members must be knowledgeable or experienced in the harvesting, processing, marketing, management, conservation, or research of the offshore Pacific whiting resource. Eight individuals represent the United States on the AP, and nominations for one of those positions (id. at § 7005) is solicited through this notice.

Members appointed to the U.S. sections of the AP will be reimbursed for necessary travel expenses in accordance with Federal Travel Regulations and sections 5701, 5702, 5704 through 5708, and 5731 of Title 5. (Id. at § 7008). NMFS anticipates that 1-2 meetings of the AP will be held annually, and these meetings will be held in the United States or Canada. AP members will need a valid U.S. passport.

The Pacific Whiting Act also states that while performing their appointed duties, members “other than officers or employees of the United States Government, shall not be considered to be Federal employees while performing such service, except for purposes of injury compensation or tort claims liability as provided in chapter 81 of title 5 and chapter 171 of title 28.” (Id.)

Information on the Pacific Whiting Treaty, including current committee members can be found at: www.westcoast.fisheries.noaa.gov/fisheries/management/whiting/pacific_whiting_treaty.html.

Advisory Panel Qualifications

AP member nominees must be knowledgeable or experienced in the harvesting, processing, marketing, management, conservation, or research of the offshore Pacific whiting resource; and must not be employees of the United States government. Nomination packages for appointments should include:

1. The name of the applicant or nominee, position they are being nominated for and a description of his/her interest in Pacific whiting; and

2. A statement of background and/or description of how the nominee is knowledgeable or experienced in the harvesting, processing, marketing, management, conservation, or research of the offshore Pacific whiting resource. Letters of support for nominees will also be considered.

Authority: 16 U.S.C. 7001 et seq.

Dated: July 6, 2017.
Emily H. Menashes,
Acting Director, Office of Sustainable Fisheries, National Marine Fisheries Service.

[FR Doc. 2017-14552 Filed 7-11-17; 8:45 am]

BILLING CODE 3510-22-P